DEPARTMENT OF THE INTERIOR

Bureau of Land Management

[CO-930; COC-28673]

Public Land Order No. 7521; Opening of National Forest System Lands Under Section 24 of the Federal Power Act; Colorado

AGENCY: Bureau of Land Management, Interior.

ACTION: Public Land Order.

SUMMARY: This order opens, subject to the provisions of Section 24 of the Federal Power Act, 456.29 acres of National Forest System lands withdrawn by a United States Geological Survey Order which established Bureau of Land Management Power Site Classification No. 441. This action will permit consummation of a pending Forest Service land exchange and retain the power rights to the United States. The lands have been and will remain open to mineral leasing and, under the provisions of the Mining Claims Rights Restoration Act of 1955, to mining.

EFFECTIVE DATE: June 10, 2002.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by the Act of June 10, 1920, Section 24, as amended, 16 U.S.C. 818 (1994), and pursuant to the determination of the Federal Energy Regulatory Commission in DVCO-558-000, it is ordered as follows:

At 9 a.m. on June 10, 2002, the following described National Forest System lands withdrawn by the United States Geological Survey Order dated January 23, 1958, which established Power Site Classification No. 441, will be opened to disposal subject to the provisions of Section 24 of the Federal Power Act as specified by the Federal Energy Regulatory Commission determination DVCO-558-000, and subject to valid existing rights, the provisions of existing withdrawals, other segregations of record, and the requirements of applicable law:

New Mexico Principal Meridian

Rio Grande National Forest

T. 40 N., R. 2 W.,

Sec. 4, E½NW¼SE¼;

Sec. 9, S½SE¼;

Sec. 10, lots 8 to 10, inclusive;

Sec. 11, lots 16 and 17;

Sec. 14, lot 3 and SW¼NW¼SW¼;

Sec. 15, NW¼NW¼ and SW¼NE¼;

Sec. 23, S½SE¼NE¼, NW¼SE¼NE¼, and NE¼SE¼;

Sec. 25, lots 1 and 2.

The areas described aggregate 456.29 acres in Mineral County.

Dated: April 23, 2002.
Rebecca W. Watson,
Assistant Secretary.

[FR Doc. 02-11573 Filed 5-8-02; 8:45 am]

BILLING CODE 3410-11-P